DEPARTMENT OF ENERGY

Federal Energy Regulatory Commission

[Docket No. RP00-425-000]

Williams Gas Pipelines Central, Inc.; Notice of Proposed Changes in FERC Gas Tariff

August 7, 2000.

Take notice that on July 31, 2000, Williams Gas Pipelines Central, Inc. (Williams), tended for filing as part of its FERC Gas Tariff, Original Volume No. 1, the tariff sheets contained in Appendix A to its filing, to become effective September 1, 2000.

The filing reflects the request of Williams to be given approval to enter into negotiated rate transactions with its customers, per policies issued January 31, 1996 in Docket Nos. RM95-6 and RM96-7. The filing also modifies Williams's tariff to expressly state in the tariff the types of generic discounts that may be agreed to by Williams and its shippers without the need to file the individual discount agreements as non-conforming service agreements.

Copies of the revised tariff sheet are being mailed to Williams's jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fedus/online/rims.htm (call 202-208-2222 for assistance).

David P. Boergers,
Secretary.

[FR Doc. 00-20362 Filed 8-10-00; 8:45 am]

BILLING CODE 6717-01-M